DEPARTMENT OF COMMERCE

Census Bureau

Submission for OMB Review; Comment Request

The Department of Commerce will submit to the Office of Management and Budget (OMB) for clearance the following proposal for collection of information under the provisions of the Paperwork Reduction Act: The Housing Vacancy Survey. This survey, conducted in conjunction with the Current Population Survey, is collected from a sample of vacant housing units identified in the monthly CPS sample.

Agency: U.S. Census Bureau.

Title: Housing Vacancy Survey.

OMB Control Number: 0607-0179.

Form Number(s): There are no forms. We conduct all interviews on computers.

Type of Request: Regular submission.

Number of Respondents: 84,000.

Average Hours per Response: Approximately 3 minutes per response.

Burden Hours: 4,200.

Needs and Uses: Policy analysts, program managers, budget analysts, and congressional staff use these data to advise the executive and legislative branches of government with respect to the number and characteristics of units available for occupancy and the suitability of housing initiatives. These data are a component of consumer expenditure statistics. They also are used to project mortgage demand and to measure the adequacy of the supply of rental and homeowner units. In addition, investment firms use the HVS data to analyze market trends and for economic forecasting.

Affected Public: Individuals who have knowledge of the vacant unit (e.g., landlords, rental agents, neighbors).

Frequency: Monthly.

Respondent's Obligation: Voluntary.

Legal Authority: Title 13, United States Code, Section 182; and Title 29, United States Code, Section 1 authorize the Census Bureau to collect this information.

This information collection request may be viewed at www.reginfo.gov. Follow the instructions to view Department of Commerce collections currently under review by OMB.

Written comments and recommendations for the proposed information collection should be submitted within 30 days of the publication of this notice on the following website <www.reginfo.gov/public/do/PRAMain>. Find this particular information collection by selecting “Currently under 30-day Review—Open for Public Comments” or by using the search function and entering either the title of the collection or the OMB Control Number 0607-0179.

Sheleen Dumas,
Department PRA Clearance Officer, Office of the Chief Information Officer, Commerce Department.

[FR Doc. 2020-05683 Filed 3-18-20; 8:45 am]

BILLING CODE 3510-07-P